NATIONAL AERONAUTICS AND SPACE ADMINISTRATION

[Notice 03-077]

NASA Advisory Council, Earth Systems Science and Applications Advisory Committee; Meeting

AGENCY: National Aeronautics and Space Administration (NASA)

ACTION: Notice of meeting.

SUMMARY: In accordance with the Federal Advisory Committee Act, Public Law 92-463, as amended, the National Aeronautics and Space Administration announces a meeting of the NASA Advisory Council (NAC), Earth Systems Science and Applications Advisory Committee (ESSAAC).

DATES: Wednesday, July 16, 2003, 8:30 a.m. to 5:30 p.m.; and Thursday, July 17, 2003, 8:30 a.m. to 5:30 p.m.

ADDRESSES: Loews L'Enfant Plaza Hotel, 480 L'Enfant Plaza SW, Washington, DC 20024.

FOR FURTHER INFORMATION CONTACT: Mr. Gregory Williams, Code Y, National Aeronautics and Space Administration, Washington, DC 20546, 202/358-0241.

SUPPLEMENTARY INFORMATION: The agenda for the meeting is as follows:

—Chair's Welcome/Opening remarks

—NASA Administrator or Deputy Administrator Welcoming Remarks

—Earth Science Enterprise (ESE) Status

—Interagency context

—Review of ESE Strategy

—Overview of Draft ESE Strategy, review, process and next steps

—Discussion

Science: modeling, collaborations

Applications

Program and Technology

Data & Information Systems: advances enabling science collaboration

Interagency partnerships

Committee Deliberations

It is imperative that the meeting be held on these dates to accommodate the scheduling priorities of key participants. NASA was unable to arrange a meeting room at a NASA facility for these dates. Visitors will be requested to sign a visitor's register.

June W. Edwards,
Advisory Committee Management Officer, National Aeronautics and Space Administration.

[FR Doc. 03-16351 Filed 6-26-03; 8:45 am]

BILLING CODE 7510-01-P